DEPARTMENT OF THE TREASURY

Internal Revenue Service

26 CFR Part 301

[TD 9274]

RIN 1545-BB16

Disclosure of Return Information by Certain Officers and Employees for Investigative Purposes; Correction

AGENCY: Internal Revenue Service (IRS), Treasury.

ACTION: Correcting amendment.

SUMMARY: This document corrects final regulations (TD 9274) that were published in the Federal Register on Tuesday, July 11, 2006 (71 FR 38985). The document contains final regulations relating to the disclosure of return information pursuant to section 6103(k)(6) of the Internal Revenue Code.

DATES: This correcting amendment is effective October 17, 2006.

FOR FURTHER INFORMATION CONTACT: Helene R. Newsome, (202) 622-4570 (not a toll-free number).

SUPPLEMENTARY INFORMATION:

Background

The notice of final regulations (TD 9274) that is the subject of these corrections is under section 6103(k)(6) of the Internal Revenue Code.

Need for Correction

As published, TD 9274 contains errors that may prove to be misleading and are in need of clarification.

List of Subjects in 26 CFR Part 301

Employment taxes, Estate taxes, Excise taxes, Gift taxes, Income taxes, Penalties, Reporting and recordkeeping requirements.

Correction of Publication

Accordingly, 26 CFR Part 301 is corrected by making the following correcting amendments:

Paragraph 1. On page 38985, column 1, in the preamble, under the caption “DATES”, second line, the language “are effective July 11, 2006.” is corrected to read “are effective July 6, 2006.”.

Par. 2. On page 38986, column 2, in the preamble, under the paragraph heading “Special Analyses”, sixth line from the top of the column, the language “and because the regulation does not” is corrected to read “and because the regulations do not”.

PART 301—PROCEDURE AND ADMINISTRATION

Par. 3. The authority citation for part 1 continues to read in part as follows:

Authority: 26 U.S.C. 7805 * * *

Par. 4. Section 301.6103(k)(6)-1(e) is revised to read as follows:

§ 301.6103(k)(6)-1 Disclosure of return information by certain officers and employees for investigative purposes.

* * * * *

(e) Effective date. This section is applicable on July 6, 2006.

Guy R. Traynor,
Chief, Publications and Regulations Branch, Legal Processing Division,Associate Chief Counsel, (Procedure and Administration).

[FR Doc. E6-17135 Filed 10-16-06; 8:45 am]

BILLING CODE 4830-01-P